DEPARTMENT OF HOMELAND SECURITY

Coast Guard

[USCG 2003-14928]

Information Collection Under Review by the Office of Management and Budget (OMB): 1625-0003, Lifesaving, Report of Recreational-Boating Accident

AGENCY: Coast Guard, DHS.

ACTION: Request for comments.

SUMMARY: In compliance with the Paperwork Reduction Act of 1995, this request for comments announces that the Coast Guard has forwarded one Information Collection Report (ICR), on Lifesaving, Report of Recreational-Boating Accident, to the Office of Information and Regulatory Affairs (OIRA) of the Office of Management and Budget (OMB) for review and comment. Our ICR describes the information we seek to collect from the public. Review and comment by OIRA ensures that we impose only paperwork burdens commensurate with our performance of duties.

DATES: Please submit comments on or before September 5, 2003.

ADDRESSES: To make sure that your comments and related material do not enter the docket [USCG 2003-14928] more than once, please submit them by only one of the following means:

(1)(a) By mail to the Docket Management Facility, U.S. Department of Transportation, room PL-401, 400 Seventh Street SW., Washington, DC 20590-0001. (b) By mail to OIRA, 725 17th Street NW., Washington, DC 20503, to the attention of the Desk Officer for the Coast Guard. Caution: Because of recent delays in the delivery of mail, your comments may reach the Facility more quickly if you choose one of the means described below.

(2)(a) By delivery to room PL-401 at the address given in paragraph (1)(a) above, between 9 a.m. and 5 p.m., Monday through Friday, except Federal holidays. The telephone number is 202-366-9329. (b) By delivery to OIRA, at the address given in paragraph (1)(b) above, to the attention of the Desk Officer for the Coast Guard.

(3) By fax to (a) the Facility at 202-493-2251 and (b) OIRA at 202-395-5806, or e-mail to OIRA at oira_docket@omb.eop.gov attention: Desk Officer for the Coast Guard.

(4)(a) Electronically through the Web Site for the Docket Management System at http://dms.dot.gov. (b) OIRA does not have a website on which you can post your comments.

(5) Electronically through Federal eRule Portal: http://www.regulations.gov.

The Facility maintains the public docket for this notice. Comments and material received from the public, as well as documents mentioned in this notice as being available in the docket, will become part of this docket and will be available for inspection or copying at room PL-401 (Plaza level), 400 Seventh Street SW., Washington, DC, between 9 a.m. and 5 p.m., Monday through Friday, except Federal holidays. You may also find this docket on the Internet at http://dms.dot.gov.

Copies of the complete ICR are available for inspection and copying in public dockets. They are available in docket USCG 2003-14928 of the Docket Management Facility between 10 a.m. and 5 p.m., Monday through Friday, except Federal holidays; for inspection and printing on the internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-5149, for questions on the docket.

SUPPLEMENTARY INFORMATION

Public Participation and Request for Comments

We encourage you to participate in this request for comment by submitting comments and related materials. We will post all comments received, without change, to http://dms.dot.gov, and they will include any personal information you have provided. We have an agreement with DOT to use the Docket Management Facility. Please see DOT's “Privacy Act” paragraph below.

Submitting comments: If you submit a comment, please include your name and address, identify the docket number for this request for comment [USCG-2003-14928], indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

Viewing comments and documents: To view comments, as well as documents mentioned in this preamble as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Regulatory History

This request constitutes the 30-day notice required by OIRA. The Coast Guard has already published [68 FR 22407 (April 28, 2003)] the 60-day notice required by OIRA. That notice elicited two (2) comments. Both comments supported Coast Guard efforts to update the Boating Accident Report (BAR) form and noted the form is well organized and includes greater detail. General comments emphasized the revised BAR form will improve data collection, thus allowing the Coast Guard and other boating safety organizations to better address the causes of boating accidents and fatalities. The Coast Guard provided written responses to comments submitted by the Professional Paddlesports Association and the Ohio Department of Natural Resources in correspondence dated July 22, 2003.

The first comment submitted by the Professional Paddlesports Association (PPA) that was relevant to the BAR form requested the addition of “Canoe/Kayak Touring” in the “Activity at Time of Accident” section of the report form. The Coast Guard concurs and plans to modify the form in the near future.

The Ohio Department of Natural Resources provided a number of comments in regard to the revised BAR form data elements. Relevant comments are summarized as follows:

Completion of the BAR Form by a Trained Law Enforcement Officer.

The operator of the vessel is required to submit the casualty or accident report to the appropriate reporting authority in compliance with 33 CFR, Part 173, Subpart C—Casualty and Accident Reporting, § 173.55. If the operator cannot submit the report, the owner shall. Professionally trained law enforcement officers and accident investigators file reports for practically all fatal and many serious non-fatal injury accidents.

Revised Wind Speed Categories.

The revised BAR form uses the Beaufort scale to measure wind speed in the marine environment with greater precision. As with the previous BAR form, the revised form retains numeric wind speed categories to enable comparisons across previous years. The Coast Guard concurs with a recommendation to change the lowest speed for the second category to start at one (1) mph instead of zero (0) and plans to modify the revised BAR form in the near future.

Operator Experience, Telephone Numbers, Equipment/Machinery Failure, and Activity at Time of Accident Form Elements

A comment questioned use of the term “Other” and requested space on the form for including additional information for a number of BAR form elements. In response, the Coast Guard includes categories termed “Other” in order to capture unique information that enables analysts to uncover patterns and/or emerging accident trends. The revised BAR form has room to include additional information in the Accident Description section.

Exposure (Boat Use) Information. How Would a Non-owner/Operator Be Able to Provide This Information?

The Coast Guard intends to include exposure questions that will help uncover the estimated number of hours the vessel operator involved in the accident operated the vessel over the past twelve (12) months. The comment offers alternative language for collecting exposure information that the Coast Guard will consider in efforts to capture a national estimate of boat use.

Identification of More Than Two Vessels

In compliance with 33 CFR, Part 173, Subpart C—Casualty and Accident Reporting, § 173.55, the operator of each vessel is required to submit a casualty or accident report to the appropriate reporting authority. Thus, each vessel operator involved in an accident is required to file a complete accident report form.

Layout of the BAR Form

On page three (3), the operator is not to provide information in the “For Agency Use” section. Pages five and six would not be required for accidents that involve only damage to the vessel and/or personal property. Essentially, pages five and six serve as an addendum and are only used for accidents that involve injuries and/or fatalities.

Instructions Provided Are too Complex in the Accident Description Section For an Operator

In an effort to ensure the privacy of boat operators involved in reported accidents, the Coast Guard is attempting to minimize the amount of personal information provided in the Accident Description section. The Coast Guard also plans to work with State agency personnel responsible for processing accident reports so the information contained in the Accident Description section is entered into an information management system (BARD-Web) in a standard uniform format.

Direction Provided on the Location of the Coast Guard PFD Approval Numbers and the Term “Other” as an Option for Injured Status

The Coast Guard concurs and will revise the BAR form in the near future.

Adding Options for “Racing” and “Cruising/Pleasure Boating” Under Victim Activity

This information is currently captured under the heading “Accident Events and Contributing Factors”.

Request for Comments

The Coast Guard invites comments on the proposed collection of information to determine whether the collection is necessary for the proper performance of the functions of the Department. In particular, the Coast Guard would appreciate comments addressing: (1) The practical utility of the collection; (2) the accuracy of the Department's estimated burden of the collection; (3) ways to enhance the quality, utility, and clarity of the information that is the subject of the collection; and (4) ways to minimize the burden of collection on respondents, including the use of automated collection techniques or other forms of information technology.

Comments, to DMS or OIRA, must contain the OMB Control Number of the ICR addressed. Comments to DMS must contain the docket number of this request, USCG 2003-14928. Comments to OIRA are best assured of having their full effect if OIRA receives them 30 or fewer days after the publication of this request.

Information Collection Request

Title: Lifesaving, Report of Recreational-Boating Accident.

OMB Control Number: 1625-0003.

Type of Request: Extension of a currently approved collection.

Affected Public: Operators of recreational vessels involved in accidents.

Form: CG-3865.

Abstract: The information collected from this report helps the Coast Guard to identify possible manufacturers' defects in boats or equipment, develop boat-manufacturing standards, formulate rules on safety, support programs in boating-safety education and awareness, and publish accident statistics.

Annual Estimated Burden Hours: The estimated burden is 3,250 hours a year.

Dated: July 29, 2003.
Clifford I. Pearson,
Director of Information and Technology.

[FR Doc. 03-20022 Filed 8-5-03; 8:45 am]

BILLING CODE 4910-15-P